DEPARTMENT OF COMMERCE

National Oceanic and Atmospheric Administration

[I.D. 031805B]

Fisheries of the Northeastern United States; Tilefish Fishery; Scoping Process

AGENCY: National Marine Fisheries Service (NMFS), National Oceanic and Atmospheric Administration (NOAA), Commerce.

ACTION: Notice of intent (NOI) to prepare an environmental impact statement (EIS); request for comments.

SUMMARY: The Mid-Atlantic Fishery Management Council (Council) announces its intention to prepare, in cooperation with NMFS, an EIS in accordance with the National Environmental Policy Act to assess potential effects on the human environment of alternative measures for managing the golden tilefish (Lopholatilus chamaeleonticeps) fishery pursuant to the Magnuson-Stevens Fishery Conservation and Management Act (MSFCMA). The Council intends to develop Amendment 1 to the Tilefish Fishery Management Plan (FMP) to address: The possible implementation of an individual fishing quota system; consideration of possible new methods to collect landings information for the commercial fishery; possible recreational management measures; possible establishment of required minimum hook size and/or hook configuration in the commercial tilefish fishery; and, methods to allow new entrants into the commercial fishery as the stock recovers. This notice announces a public process for determining the scope of issues to be addressed and for identifying the significant issues relating to management of tilefish. The intended effect of this notice is to alert the interested public of the scoping process, the development of the Draft EIS, and to provide for public participation.

DATES: Written comments on the intent to prepare an EIS must be received on or before 5 p.m., local time, on April 22, 2005.

ADDRESSES: Written comments on the intent to prepare the EIS or other information should be directed to Mr. Daniel T. Furlong, Mid-Atlantic Fishery Management Council, Room 2115 Federal Building, 300 S. New St., Dover, DE 19904, (telephone 302-674-2331). Comments may also be sent via facsimile (FAX) to (302) 674-5399 or by e-mail to TILEFISH.NOI@NOAA.GOV. Please note on your correspondence (or include in the subject line of your e-mail): “Tilefish Amendment 1 Scoping Comments.” The scoping document may also be obtained from the Council office at the address and telephone number above or via the Internet at http://www.mafmc.org/mid-atlantic/comments/comments.htm.

FOR FURTHER INFORMATION CONTACT: Mr. Daniel T. Furlong, Mid-Atlantic Fishery Management Council, Room 2115 Federal Building, 300 S. New St., Dover, DE 19904, (telephone 302-674-2331).

SUPPLEMENTARY INFORMATION: The tilefish fishery is managed by the Council's Tilefish FMP. The FMP was approved by the Secretary of Commerce on May 10, 2001, and became effective on November 26, 2001 (66 FR 49136; September 26, 2001). The management unit for this FMP is defined as all golden tilefish (Lopholatilus chamaeleonticeps) under United States jurisdiction in the Atlantic ocean north of the Virginia/North Carolina border.

The FMP included management and administrative measures to ensure effective and sustainable management of the tilefish resource. The FMP established Total Allowable Landings (TAL) as the primary control on fishing mortality. The FMP also implemented a limited entry program and a tiered commercial quota allocation of the TAL. Other elements of the FMP include permits and reporting requirements for commercial vessels, operators, and dealers.

A separate notice of scoping meetings for this amendment were published on March 3, 2005 (70 FR 10360), and March 18, 2005 (70 FR 13171).

Issues Identified for Discussion Under this Amendment

The Possible Implementation of an Individual Fishing Quota System

An individual fishing quota program (IFQ) is a form of output control that allocates harvesting privileges to individual fishermen. The MSFCMA defines an IFQ as “a Federal permit under a limited access system to harvest a quantity of fish, expressed by a unit or units representing a percentage of the total allowable catch of a fishery that may be received or held for exclusive use by a person.” One type of IFQ program is an individual transferable quota (ITQ) program. Under an ITQ program quota shares are able to be transferred between eligible allocation holders.

Under the current FMP, there are three fishing categories that the quota is divided among. There is an incidental, a part-time, and a full-time category for division of the quota. Under the Tilefish FMP, the “target” estimate of landings for the incidental category (5 percent of the TAL) is first deducted from the overall TAL, and then the remainder of the TAL is divided among the full-time tier 1 category, which receives 66 percent; the full-time tier 2 category, which receives 15 percent; and, the part-time category, which receives 19 percent. Trip limits are currently only imposed in the incidental permit category (open access) to achieve a “target” or soft quota.

The quota-based limited access program currently in place is based on group quota shares (quotas allocated to incidental, part-time, and full time vessels). However, an IFQ system could be considered for the three directed categories of tilefish fishing vessels. The Tilefish FMP states that “It is important to note that the current Mid-Atlantic Council's policy is that landings after 1998 will not assure future access to or an allocation of the tilefish resource. The purpose of this policy is to prevent a rush to fish on this overfished resource, in the hopes of obtaining a larger future allocation.” Therefore, any IFQ alternative will likely be based on historical catches from logbook data from the time period between 1984 and1998. One logical allocation of an IFQ system could be based on individual vessel catches over time, however, other alternatives to this system may be proposed.

An IFQ system could be developed to include all directed categories (i.e., full-time tier 1, full-time tier 2, and part-time) or it could be designed to include only 1 or two of the directed categories. However, it is possible that an IFQ system that includes all three directed categories would result in less of an administrative burden as there would be only one quota management program as opposed to 3 or 4 programs. Several alternatives can be used to divide the IFQ allocation among vessels within each directed category. For example, the following could be used to derive the IFQ allocation: (1) The IFQ allocation for a specific directed category could be divided among that category's participants equally; (2) the IFQ allocation could be based on historic landings (such as the best 3 or 5 years of landings over a 10-year period) and then divided among participants; (3) in deriving an IFQ allocation the historic landings employed to derive the original FMP allocation could be used; or, (4) in deriving an IFQ allocation weighted landings that would allocate a greater weight to more current landings could be used.

Consideration of Possible New Methods to Collect Landings Information For the Commercial Fishery

Collection of information issues have arisen since the implementation of the original FMP. More specifically, stakeholders have recommended that the Council assess measures to improve the collection of landings information.

The current FMP requires that “The owner or operator of any vessel issued a limited access permit for tilefish must submit a tilefish catch report via the Interactive Voice Response (IVR) system within 24 hours after returning to port and offloading as required by the Regional Administrator.” According to industry members not all landings are reported within the 24 hour period as required under current regulations. Therefore, real-time data may not be available to manage the fishery. This practice could potentially allow a category to remain open when, in fact, it should be closed. Lastly, tilefish fishermen use paper logbooks to report fishing activity. Stakeholders and scientists have suggested that the paper logbooks are very generic and do not allow for the collection of detailed information that could better assess effort in the fishery. More detailed/relevant data could be collected that could be used to further refine the stock assessment for tilefish.

Possible Recreational Management Measures

The regulations allow for tilefish to be harvested by the recreational sector. When the FMP was first developed, the recreational participation in this fishery was very small. However, some Council members have indicated that they have seen an increase in recreational tilefish landings. There may be a need to assess how the recent increase in recreational landings can be accounted for in the FMP.

Other Management Concerns

A number of additional management concerns may also be considered in the development of Amendment 1 including: (1) Possible establishment of a required minimum hook size and/or hook configuration in the tilefish fishery; and, (2) methods to allow new entrants into the commercial fishery as the stock recovers.

Authority: 16 U.S.C. 1801 et seq.

Dated: March 18, 2005.
Alan D. Risenhoover,
Acting Director, Office of Sustainable Fisheries, National Marine Fisheries Service.

[FR Doc. E5-1281 Filed 3-22-05; 8:45 am]

BILLING CODE 3510-22-S